DEPARTMENT OF VETERANS AFFAIRS

Voluntary Service National Advisory Committee, Notice of Meeting

The Department of Veterans Affairs (VA) gives notice under the Federal Advisory Committee Act, 5 U.S.C. App. 2, that the Executive Committee of the VA Voluntary Service (VAVS) National Advisory Committee (NAC) will meet virtually on November 3-4, 2021. The meeting sessions will begin and end as follows:

Meeting date(s): | Meeting time(s):
Wednesday, November 3, 2021 | 9:00 a.m. to 5:00 p.m. Eastern Standard Time (EST).
Thursday, November 4, 2021 | 9:00 a.m. to 12:00 p.m. EST.

You may call into the meeting by dialing 1-872-701-0185 and enter Access Code 590 558 806#. The meeting sessions are open to the public.

The Committee, comprised of 53 major Veteran, civic, and service organizations, advises the Secretary, through the Under Secretary for Health, on the coordination and promotion of volunteer activities and strategic partnerships within VA health care facilities, in the community, and on matters related to volunteerism and charitable giving. The Executive Committee consists of 20 representatives from the NAC member organizations.

Agenda topics will include the NAC goals and objectives; review of minutes from the March 30, 2021, Executive Committee meeting; an update on VA Center for Development and Civic Engagement (CDCE) activities; Veterans Health Administration update; subcommittee reports; review of standard operating procedures; review of fiscal year 2021 organization data; panel discussion with CDCE Student Leadership Council representatives; 2022 NAC annual meeting plans; and any new business.

No time will be allocated at this meeting for receiving oral presentations from the public. However, the public may submit written statements for the Committee's review to Dr. Sabrina C. Clark, Designated Federal Officer, VA Center for Development and Civic Engagement (15CDCE), Department of Veterans Affairs, 810 Vermont Avenue NW, Washington, DC 20420, or email at Sabrina.Clark@VA.gov. Any member of the public wishing to attend the meeting or seeking additional information should contact Dr. Clark at 202-461-7300.

Dated: October 19, 2021.
Jelessa M. Burney,
Federal Advisory Committee Management Officer.

[FR Doc. 2021-23087 Filed 10-21-21; 8:45 am]

BILLING CODE P